DEPARTMENT OF LABOR

Occupational Safety and Health Administration

[Docket No. OSHA-2011-0125]

Occupational Safety and Health On-Site Consultation Agreements; Revision of the Office of Management and Budget's (OMB) Approval of Information Collection (Paperwork) Requirements

AGENCY: Occupational Safety and Health Administration (OSHA), Labor.

ACTION: Request for public comments.

SUMMARY: OSHA solicits public comments concerning the proposal to revise the Office of Management and Budget's (OMB) approval of the information collection requirements specified in the Occupational Safety and Health On-Site Consultation Agreements. This revision will combine two separately approved data collections into one paperwork package for the On-Site Consultation Program. The agency is proposing to combine the Supporting Statement for Collection of Information, On-Site Consultation Agreements, Safety and Health Program Assessment Worksheet, OSHA Form 33, OMB Control Number 1218-0110, Expiration Date: February 28, 2025); and Supporting Statement for the Collection of Information Requirements in the PSM On-Site Consultation Agreements, OMB Control Number 1218-0281, Expiration Date: July 31, 2026.

DATES: Comments must be submitted (postmarked, sent, or received) by November 12, 2024.

ADDRESSES:

Electronically: You may submit comments and attachments electronically at https://www.regulations.gov, which is the Federal eRulemaking Portal. Follow the instructions online for submitting comments.

Docket: To read or download comments or other material in the docket, go to https://www.regulations.gov. Documents in the docket are listed in the https://www.regulations.gov index; however, some information (e.g., copyrighted material) is not publicly available to read or download through the websites. All submissions, including copyrighted material, are available for inspection through the OSHA Docket Office. Contact the OSHA Docket Office at (202) 693-2350 (TTY (877) 889-5627) for assistance in locating docket submissions.

Instructions: All submissions must include the agency name and OSHA docket number (OSHA-2011-0125) for the Information Collection Request (ICR). OSHA will place all comments, including any personal information, in the public docket, which may be made available online. Therefore, OSHA cautions interested parties about submitting personal information such as social security numbers and birthdates.

For further information on submitting comments, see the “Public Participation” heading in the section of this notice titled SUPPLEMENTARY INFORMATION.

FOR FURTHER INFORMATION CONTACT: Seleda Perryman, Directorate of Standards and Guidance, OSHA, U.S. Department of Labor; telephone (202) 693-2222.

SUPPLEMENTARY INFORMATION:

I. Background

The Department of Labor, as part of the continuing effort to reduce paperwork and respondents' (i.e., employers and consultants) burden, conducts a preclearance consultation program to provide the public with an opportunity to comment on proposed and continuing information collection requirements in accordance with the Paperwork Reduction Act of 1995 (PRA) (44 U.S.C. 3506(c)(2)(A)). This program ensures that information is in the desired format, reporting burden (time and costs) is minimal, the collection instruments are clearly understood, and OSHA's estimate of the information collection burden is accurate. The Occupational Safety and Health Act of 1970 (OSH Act) (29 U.S.C. 651 et seq.) authorizes information collection from employers as necessary or appropriate for enforcement of the OSH Act or for developing information regarding the causes and prevention of occupational injuries, illnesses, and accidents (29 U.S.C. 657). The OSH Act also requires that OSHA obtain such information with minimum burden upon employers, especially those operating small businesses, and to reduce to the maximum extent feasible unnecessary duplication of effort in obtaining information (29 U.S.C. 657).

Section 7(c)(1) of the OSH Act authorizes the Secretary of Labor (Secretary) to, “with the consent of any State or political subdivision thereof, accept and use the services, facilities, and personnel of any agency of such State or subdivision with reimbursement.” Section 21(c) of the OSH Act authorizes the Secretary to “consult with and advise employers and employees . . . as to effective means of preventing occupational illnesses and injuries.”

Additionally, Section 21(d) of the OSH Act instructs the Secretary to “establish and support cooperative agreements with the States (and Territories) under which employers subject to the Act may consult with State ¹ personnel (i.e., consultants) with respect to the application of occupational safety and health requirements under the Act or under State Plans approved under section 18 of the Act.” This gives the Secretary authority to enter into agreements with the States to provide On-Site Consultation services and establish rules under which employers may qualify for a programmed inspection deferral. To satisfy the intent of these and other sections of the OSH Act, OSHA codified the terms that govern cooperative agreements between OSHA and State governments whereby State agencies provide On-Site Consultation services to private employers to assist them in complying with the requirements of the OSH Act. The terms were codified as the On-Site Consultation Program regulations (29 CFR part 1908).

¹ Use of State within this document in regards to the On-Site Consultation Agreements/Program refers to both State governments and U.S. Territories.

The On-Site Consultation Program regulations specify services to be provided, and practices and procedures to be followed by the State On-Site Consultation programs. Information collection requirements set forth in the On-Site Consultation Program regulations are in two categories: State Responsibilities and Employer Responsibilities. Eight regulatory provisions require information collection activities by the State. The Federal government provides 90 percent of the funds for On-Site Consultation services delivered by the States, which result in the information collection. Four requirements apply to employers and specify conditions for receiving the free consultation services.

II. Special Issues for Comment

OSHA has a particular interest in comments on the following issues:

• Whether the proposed information collection requirements are necessary for the proper performance of the agency's functions to protect workers, including whether the information is useful;

• The accuracy of OSHA's estimate of the burden (time and costs) of the information collection requirements, including the validity of the methodology and assumptions used;

• The quality, utility, and clarity of the information collected; and

• Ways to minimize the burden on employers who must comply; for example, by using automated or other technological information, and transmission techniques.

III. Proposed Actions

OSHA is proposing that OMB revise the approval of the information collection requirements contained in the Occupational Safety and Health On-Site Consultation Agreements. The agency is requesting an adjustment decrease and a program change to incorporate the collections from OMB Control Number 1218-0281. The number of burden hours have decreased from 223,495 to 195,692 hours, a difference of 27,759 hours. OSHA attributes this to fewer visits being conducted in recent years, including FY 2023. The reason for the fewer visits is likely flat funding of the program and inflationary pressures due to cost-of-living increases. Also, some Consultation programs are only now reestablishing onsite visits to worksites that were inaccessible during restrictions that resulted from the COVID-19 pandemic. Although there have been burden hour increases associated with some activities (e.g., adding activities associated with consultation visits involving the assessment of worksites where Process Safety Management (PSM) evaluations are conducted that were previously approved in OMB Control Number 1218-0281, and OSHA's instructions to Consultation programs to use the entire Form 33 on more consultation visits, to enhance consultation services to small business employers), these burden hour increases have been fewer than the decreased burden hours associated with fewer visits.

OSHA will summarize the comments submitted in response to this notice and will include this summary in the request to OMB to extend the approval of the information collection requirements.

Type of Review: Revision of a currently approved data collection.

Title: Occupational Safety and Health On-Site Consultation Agreements.

OMB Control Number: 1218-0110.

Affected Public: Business or other for-profits.

Number of Respondents: 23,166.

Number of Responses: 76,585.

Frequency of Responses: On occasion.

Average Time per Response: Varies.

Estimated Total Burden Hours: 195,736.

Estimated Cost (Operation and Maintenance): $0.

IV. Public Participation—Submission of Comments on this Notice and Internet Access to Comments and Submissions

You may submit comments in response to this document as follows: (1) electronically at https://www.regulations.gov, which is the Federal eRulemaking Portal; or (2) by facsimile (fax), if your comments, including attachments, are not longer than 10 pages you may fax them to the OSHA Docket Office at 202-693-1648. All comments, attachments, and other material must identify the agency name and the OSHA docket number for the ICR (OSHA-2011-0125). You may supplement electronic submission by uploading document files electronically.

Comments and submissions are posted without change at https://www.regulations.gov. Therefore, OSHA cautions commenters about submitting personal information such as social security numbers and dates of birth. Although all submissions are listed in the https://www.regulations.gov index, some information (e.g., copyrighted material) is not publicly available to read or download from this website. All submission, including copyrighted material, are available for inspection and copying at the OSHA Docket Office. Information on using the https://www.regulations.gov website to submit comments and access the docket is available at the website's “User Tips” link.

Contact the OSHA Docket Office at (202) 693-2350, (TTY (877) 889-5627) for information about materials not available from the website, and for assistance in using the internet to locate docket submissions.

V. Authority and Signature

James S. Frederick, Deputy Assistant Secretary of Labor for Occupational Safety and Health, directed the preparation of this notice. The authority for this notice is the Paperwork Reduction Act of 1995 (44 U.S.C. 3506 et seq.) and Secretary of Labor's Order No. 8-2020 (85 FR 58393).

Signed at Washington, DC, on September 4, 2024.
James S. Frederick,
Deputy Assistant Secretary of Labor for Occupational Safety and Health.

[FR Doc. 2024-20438 Filed 9-10-24; 8:45 am]

BILLING CODE 4510-26-P